DEPARTMENT OF TRANSPORTATION

Federal Aviation Administration

14 CFR Part 39

[Docket No. FAA-2004-18033; Directorate Identifier 2004-CE-16-AD; Amendment 39-17400; AD 2004-21-08 R1]

RIN 2120-AA64

Airworthiness Directives; Cessna Aircraft Company Airplanes

AGENCY: Federal Aviation Administration (FAA), DOT.

ACTION: Final rule; correction.

SUMMARY: The FAA is correcting an airworthiness directive (AD) that published in the Federal Register. That AD applies to all Cessna Aircraft Company (Cessna) Models 190, 195 (L-126A,B,C), 195A, and 195B airplanes that are equipped with certain inboard aileron hinge brackets. The AD docket number in the preamble section and the rule portion of the AD is incorrect. Also, the statement that no comments on the notice of proposed rulemaking (NPRM) were received is incorrect. This document corrects these errors. In all other respects, the original document remains the same.

DATES: This correction is effective April 29, 2013. The effective date for AD 2004-21-08 R1 remains May 9, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Gary Park, Aerospace Engineer, Wichita ACO, FAA, 1801 Airport Road, Wichita, KS 67209; phone: (316) 946-4123; fax: (316) 946-4107; email: gary.park@faa.gov.

SUPPLEMENTARY INFORMATION: AD 2004-21-08 R1, amendment 39-17400 (78 FR 20227, April 4, 2013), currently requires you to repetitively inspect the affected inboard aileron hinge brackets for cracks or corrosion and replace them if cracks or corrosion is found for all Cessna Models 190, 195 (L-126A,B,C), 195A, and 195B airplanes that are equipped with certain inboard aileron hinge brackets. Replacement with aluminum brackets would terminate the need for the repetitive inspections. Future compliance requires following a revised service bulletin that clarifies the casting numbers and part numbers to be inspected.

As published, the AD docket number in the final rule headings and in the headings of the AD is incorrect.

It was incorrectly stated in the comments section that we received no comments on the NPRM (78 FR 1155, January 8, 2013). We received one supportive comment on the NPRM.

No other part of the preamble or regulatory information has been changed; therefore, only the changed portion of the final rule is being published in the Federal Register.

The effective date of this AD remains May 9, 2013.

Correction of Non-Regulatory Text

In the Federal Register of April 4, 2013, AD 2004-21-08 R1; Amendment 39-17400 is corrected as follows:

On page 20227, in the first column, on line 4 in the headings of the final rule, change “Docket No. FAA-2012-18033 * * *.” to “Docket No. FAA-2004-18033 * * *.”

On page 20227, in the third column, beginning on the second line under the “Comments” section, change the second sentence from “We received no comments on the NPRM (78 FR 1155, January 8, 2013) or on the determination of the cost to the public.” to “We received one supportive comment on the NPRM (78 FR 1155, January 8, 2013) and no comments on the determination of the cost to the public.”

Correction of Regulatory Text

§ 39.13 [Corrected]

In the Federal Register of April 4, 2013, on page 20228, in the second column, the AD headings immediately following the second amendatory instruction are corrected to read as follows:

2004-21-08 R1 Cessna Aircraft Company: Amendment 39-17400; Docket No. FAA-2004-18033; Directorate Identifier 2004-CE-16-AD.

Issued in Kansas City, Missouri, on April 17, 2013.
John Colomy,
Acting Manager, Small Airplane Directorate, Aircraft Certification Service.

[FR Doc. 2013-09496 Filed 4-26-13; 8:45 am]

BILLING CODE 4910-13-P